DEPARTMENT OF JUSTICE

Federal Bureau of Investigation

[Docket No. FBI]

FBI Criminal Justice Information Services Division; User Fee Schedule

AGENCY: Federal Bureau of Investigation (FBI), Justice.

ACTION: Notice.

SUMMARY: This notice establishes revised rates for the user fee schedule for authorized users requesting fingerprint-based and name-based Criminal History Record Information (CHRI) checks for noncriminal justice purposes.

DATES: This revised fee schedule is effective October 1, 2016.

FOR FURTHER INFORMATION CONTACT: Ms. Robin A. Stark-Nutter, Section Chief, Resources Management Section, Criminal Justice Information Services (CJIS) Division, FBI, 1000 Custer Hollow Road, Module E-3, Clarksburg, WV 26306. Telephone number (304) 625-2910.

SUPPLEMENTARY INFORMATION: Pursuant to the authority in Public Law 101-515, as amended, the FBI has established user fees for authorized agencies requesting noncriminal justice fingerprint-based and name-based CHRI checks. In accordance with the requirements of 28 CFR 20.31(e), the FBI periodically reviews the process of providing fingerprint-based and name-based CHRI checks to determine the proper fee amounts that should be collected, and the FBI publishes any resulting fee adjustments in the Federal Register.

A fee study was conducted in keeping with 28 CFR 20.31(e)(2) and employed the same methodology as detailed in the Federal Register establishing the process for setting fees (75 FR 18751, April 13, 2010). The fee study results recommended reduced fingerprint-based and name-based CHRI checks from the current user fees published October 27, 2014 (79 FR 63943), which have been in effect since February 1, 2015. The fee study also recommended the elimination of the interim fees set for “Rap Back.” Rap Back is an optional service offered by the FBI that provides authorized users with the capability to enroll an individual in a program in order to receive notification of subsequent triggering information, such as a new criminal arrest or the disposition of an old arrest, involving that individual during the term of enrollment. The fee study recommended that the cost of the optional Rap Back program be included as part of the revised fingerprint-based CHRI fees.

The FBI independently reviewed the recommendations, compared them to current fee calculations and plans for future service, and determined that the revised fees were both objectively reasonable and consistent with the underlying legal authorities. Pursuant to the recommendations of the study, the fees for fingerprint-based CHRI checks will be decreased and the fee for name-based CHRI checks will be decreased for federal agencies specifically authorized by statute, e.g., pursuant to the Security Clearance Information Act, 5 U.S.C. 9101. The interim Rap Back fee will be eliminated.

The following tables detail the new fee amounts for authorized users requesting fingerprint-based and name-based CHRI checks for noncriminal justice purposes, including the difference from the fee schedule currently in effect.

Fingerprint-Based CHRI Checks
Service | Fee currently in effect | Fee currently in effect for CBSPs ¹ | Change in fee amount | Revised fee | Revised fee for CBSPs
Fingerprint-based Submission | $14.75 | $12.75 | ($2.75) | $12.00 | $10.00
Fingerprint-based Volunteer Submission (see 75 FR 18752) | 13.50 | 11.50 | (2.75) | 10.75 | 8.75
¹ Centralized Billing Service Providers, see 75 FR 18753.

Name-Based CHRI Checks
Service | Fee currently in effect | Change in fee amount | Revised fee
Name-based Submission | $2.25 | ($0.25) | $2.00

Dated: July 8, 2016.
James B. Comey,
Director, Federal Bureau of Investigation.

[FR Doc. 2016-16610 Filed 7-13-16; 8:45 am]

BILLING CODE 4410-02-P